DEPARTMENT OF VETERANS AFFAIRS

38 CFR Ch. 1

Unified Agenda of Federal Regulatory and Deregulatory Actions

AGENCY: Department of Veterans Affairs.

ACTION: Semiannual regulatory agenda.

SUMMARY: This Agenda announces the regulations that the Department of Veterans Affairs (VA) will have under development or review during the 12-month period beginning spring 2018. The purpose in publishing the Department's regulatory agenda is to allow all interested persons the opportunity to participate in VA's regulatory planning.

ADDRESSES: Interested persons are invited to comment on the entries listed in the agenda by contacting the individual agency contact listed for each entry or by writing to: Director, Regulations Management (00REG), Department of Veterans Affairs, 810 Vermont Avenue NW, Washington, DC 20420.

FOR FURTHER INFORMATION CONTACT: Michael Shores at (202) 461-4921 or Consuela Benjamin at (202) 461-5952.

SUPPLEMENTARY INFORMATION: This document is issued pursuant to Executive Order 12866 “Regulatory Planning and Review” (and implementing guidance) and the Regulatory Flexibility Act, which require that executive agencies semiannually publish in the Federal Register an agenda of regulations that they have under development or review.

Michael P. Shores,
Director, Office of Regulation Policy and Management.

Department of Veterans Affairs—Proposed Rule Stage
Sequence No. | Title | Regulation Identifier No.
177 | Loan Guaranty: Revisions to VA-Guaranteed Refinance Home Loans | 2900-AQ25

DEPARTMENT OF VETERANS AFFAIRS (VA)

Veterans Benefits Administration

Proposed Rule Stage

177. • Loan Guaranty: Revisions to VA-Guaranteed Refinance Home Loans

E.O. 13771 Designation: Fully or Partially Exempt.

Legal Authority: 38 U.S.C. 501; 38 U.S.C. 3720; 38 U.S.C. 3703; 38 U.S.C. 3710

Abstract: The Department of Veterans Affairs (VA) is proposing to amend its rules on VA-guaranteed refinance home loans. In promulgating this rulemaking, VA intends to curtail lending practices that increase the risk of equity skimming and serial refinancing, cause instability in the secondary lending market, devalue the loan guaranty benefit as a lending product, and expose taxpayers to unnecessary risk. This rulemaking would also make certain regulatory updates to conform with statutory changes.

Timetable:

Action | Date | FR Cite
NPRM | 06/00/18

Regulatory Flexibility Analysis Required: Yes.

Agency Contact: John Bell III, Assistant Director for Loan Policy and Valuation (262), Department of Veterans Affairs, 810 Vermont Avenue NW, Washington, DC 20420, Phone: 202 632-8786, Email: john.bell2@va.gov.

RIN: 2900-AQ25

[FR Doc. 2018-11279 Filed 6-8-18; 8:45 am]

BILLING CODE 8320-01-P